NUCLEAR REGULATORY COMMISSION

[Docket Nos. 50-335 and 50-389]

Florida Power and Light Company, St. Lucie Nuclear Plant, Units 1 and 2; Notice of Receipt of Application for Renewal of Facility Operating License Nos. DPR-67 and NPF-16 for an Additional 20-Year Period

The U.S. Nuclear Regulatory Commission has received the application from Florida Power and Light Company, dated November 29, 2001, filed pursuant to Section 104b and 103 of the Atomic Energy Act of 1954, as amended, and 10 CFR part 54 for renewal of Operating License Nos. DPR-67 and NPF-16, which authorize the applicant to operate St. Lucie Nuclear Plant, Units 1 and 2. The St. Lucie nuclear facility is located about 7 miles southeast of the city of Fort Pierce, Florida, in St. Lucie County. The current operating licenses for St. Lucie Units 1 and 2, expire on March 1, 2016, and April 6, 2023, respectively. For St. Lucie Unit 2, Florida Power and Light requested an exemption to the schedular requirements of 10 CFR 54.17(c) by letter dated October 30, 2000. By letter dated February 27, 2001, the NRC approved the requested schedular exemption. The St. Lucie Units 1 and 2 reactors are Combustion Engineering designed pressurized-water reactors. The acceptability of the tendered application for docketing and other matters, including an opportunity to request a hearing will be the subject of a subsequent Federal Register notice.

A copy of the application is available for public inspection at the Commission's Public Document Room, located at One White Flint North, 11555 Rockville Pike (first floor), Rockville, Maryland, or on the NRC Web site from the NRC's Agencywide Documents Access and Management System (ADAMS). The ADAMS Public Electronic Reading Room is accessible from the NRC Web site at http://www.nrc.gov/reading-rm/adams.html. If you do not have access to ADAMS or if there are problems in accessing the documents located in ADAMS, contact the NRC Public Document Room (PDR) Reference staff at 1-800-397-4209, 301-415-4737 or by email to pdr@nrc.gov.

The staff has verified that a copy of the license renewal application for the St. Lucie Nuclear Plant has been provided to the Indian River Community College library.

Dated at Rockville, Maryland, the 19th day of December, 2001.
For the Nuclear Regulatory Commission
Stephen T. Hoffman,
Acting Chief, License Renewal and Standardization Branch, Division of Regulatory Improvement Programs, Office of Nuclear Reactor Regulation.

[FR Doc. 01-31807 Filed 12-26-01; 8:45 am]

BILLING CODE 7590-01-P